DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of twenty four newly-designated persons whose property and interests in property are blocked pursuant to Executive Order 12978 of October 21, 1995, “Blocking Assets and Prohibiting Transactions with Significant Narcotics Traffickers.”

DATES: The designation by the Secretary of the Treasury of the twenty four persons identified in this notice pursuant to Executive Order 12978 is effective on October 25, 2006.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”), effective at 12:01 a.m. eastern daylight time on October 22, 1995. In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On October 25, 2006, the Secretary of the Treasury, in consultation with the Attorney General and Secretary of State, as well as the Secretary of Homeland Security, designated twenty four persons whose property and interests in property are blocked pursuant to the Order.

The list of additional designees follows:

1. CANO AGUDELO S EN C, Finca La Alambra, Alcala, Valle, Colombia; NIT # 821002095 (Colombia); (ENTITY) [SDNT]

2. COMERCIALIZADORA DE CAFE DEL OCCIDENTE CODECAFE LTDA. (a.k.a. CODECAFE); Carrera 8 No. 23-09 , Ofc. 903, Pereira, Risaralda, Colombia; NIT # 806004106-0 (Colombia); (ENTITY) [SDNT]

3. GAVIOTAS LTDA. (a.k.a. MOTEL CAMPO AMOR; a.k.a. HOTEL SIN PECADOS; a.k.a. “Hotel Sin PK2”); Calle 4A No. 21-34 Circunvalar, Cartago, Valle, Colombia; NIT # 800032092-7 (Colombia); (ENTITY) [SDNT]

4. GOMEZ MARIN LTDA., Km. 2 Via al Amprao, Ansermanuevo, Valle, Colombia; Km. 2 Via al Amparo, Cartago, Valle, Colombia; Calle 16 No. 1N-74, Cartago, Valle, Colombia; NIT # 800102465-1 (Colombia); (ENTITY) [SDNT]

5. INVERSIONES MACARNIC PATINO Y CIA S.C.S., Calle 19 No. 9-50, Ofc. 505, Pereira, Risaralda, Colombia; Carrera 8 No. 23-09, Ofc. 903, Pereira, Risaralda, Colombia; NIT # 816005011-4 (Colombia); (ENTITY) [SDNT]

6. ORLANDO SABOGAL ZULUAGA E HIJOS & CIA S EN C, Hacienda Portugal, Ansermanuevo, Valle, Colombia; NIT # 80018139-3 (Colombia); (ENTITY) [SDNT]

7. CANO ALZATE, Yolanda Sofia, c/o GAVIOTAS LTDA., Colombia; DOB 25 Apr 1957; POB Cartago, Valle; Cedula No. 31399608 (Colombia); Passport AH506324 (Colombia); (INDIVIDUAL) [SDNT]

8. CANO CORREA, Jhon Eidelber (a.k.a. Cano, Jhonny; a.k.a. “Flechas”; a.k.a. CARDONA RIBILLAS, Alejandro); Carrera 28 No. 7-35, Cali, Colombia; Calle 18 No. 8-16, Cartago, Valle, Colombia; DOB 13 Dec 1963; POB El Aguila, Valle, Colombia; Citizen Colombia; Nationality Colombia; Cedula No. 16217170 (Colombia); Passport AF133955 (Colombia); Passport AC877214 (Colombia); Cedula No. 16455750 (Colombia); (INDIVIDUAL) [SDNT]

9. GALLEGO CANO, Juan de la Cruz, c/o GAVIOTAS LTDA., Cartago, Valle, Colombia; Carrera 3 No. 6-39, El Aguila, Valle, Colombia; DOB 26 Feb 1956; POB El Aguila, Valle, Colombia; Citizen Colombia; Nationality Colombia; Cedula No. 6272570 (Colombia); Passport AF200504 (Colombia); (INDIVIDUAL) [SDNT]

10. GIRALDO FRANCO, Juan Carlos; Colombia; Calle 3 Oeste No. 26-12, El Aguila, Valle, Colombia; DOB 10 Jun 1971; Cedula No. 16791184 (Colombia); (INDIVIDUAL) [SDNT]

11. GOMEZ BUSTAMANTE, Luis Alfonso, c/o GAVIOTAS LTDA., Colombia; Calle 1B No. 1-26, Barrio El Prado, Cartago, Valle, Colombia; Carrera 5 No. 1-82, Obando, Valle, Colombia; DOB 01 Nov 1953; Passport 4451571 (Colombia); Cedula No. 4451571 (Colombia); (INDIVIDUAL) [SDNT]

12. GOMEZ BUSTAMANTE, Wilmer de Jesus, c/o GAVIOTAS LTDA., Cartago, Valle, Colombia; Calle 17A No. 8N-15, Cartago, Valle, Colombia; DOB 26 Jan 1970; POB Aguila, Valle; Cedula No. 16223940 (Colombia); Passport AH345442 (Colombia); Passport AF002565 (Colombia); (INDIVIDUAL) [SDNT]

13. GOMEZ OCAMPO, Davinson (a.k.a. “Gordo”); c/o GOMEZ MARIN LTDA., Ansermanuevo, Valle, Colombia; Calle 16 No. 1-58, Cartago, Valle, Colombia; DOB 10 Jul 1960; Cedula No. 2470433 (Colombia); (INDIVIDUAL) [SDNT]

14. HERNANDEZ ARBOLEDA, Sandra Milena, c/o COMERCIALIZADORA DE CAFE DEL OCCIDENTE CODECAFE LTDA., Pereira, Risaralda, Colombia; c/o INVERSIONES MACARNIC PATINO Y CIA S.C.S., Pereira, Risaralda, Colombia; Cedula No. 42109136 (Colombia); (INDIVIDUAL) [SDNT]

15. PATINO RESTREPO, Carlos Arturo (a.k.a. “Patemuro”; a.k.a. “Pate Muro”); c/o COMERCIALIZADORA DE CAFE DEL OCCIDENTE CODECAFE LTDA., Colombia; c/o INVERSIONES MACARNIC PATINO Y CIA S.C.S., Pereira, Risaralda, Colombia; Calle 20 No. 6-30, Ofc. 1304, Pereira, Risaralda, Colombia; Carrera 8-21, Viterbo, Caldas, Colombia; DOB 27 Apr 1964; POB La Virginia, Risaralda, Colombia; Citizen Colombia; Nationality Colombia; Cedula No. 9991679 (Colombia); Passport 9991679 (Colombia); Passport AF186124 (Colombia); Passport AC455469 (Colombia); Passport PO69381 (Colombia); (INDIVIDUAL) [SDNT]

16. PATINO TORRES, Juan Carlos, c/o GAVIOTAS LTDA., Cartago, Valle, Colombia; Carrera 5 No. 13-10 , Ofc. 204, Cartago, Valle, Colombia; DOB 26 Jun 1971; POB Cartago, Valle, Colombia; Citizen Colombia; Nationality Colombia; Cedula No. 10141042 (Colombia); Passport AG172869 (Colombia); (INDIVIDUAL) [SDNT]

17. RENDON RAMIREZ, Jose Aldemar (a.k.a. “Mechas”); Carrera 9 No. 10-07, Cartago, Valle, Colombia; Carrera 26 No. 80-40, MZ 1, Casa 13, Pereira, Risaralda, Colombia; Carrera 13 No. 18-50, Cartago, Valle, Colombia; DOB 24 Jul 1950; POB Pereira; Cedula No. 16202349 (Colombia); Passport AF956905 (Colombia); Passport AE182792 (Colombia); (INDIVIDUAL) [SDNT]

18. RESTREPO CLAVIJO, Carlos Umberto (a.k.a. RESTREPO CLAVIJO, Carlos Huberto; a.k.a. RESTREPO CLAVIJO, Carlos Humberto); Calle 8 No. 4-47, Cartago, Valle, Colombia; Cedula No. 16205322 (Colombia); (INDIVIDUAL) [SDNT]

19. ROJAS FRANCO, Jaime, Colombia; DOB 24 Dec 1957; POB Cartago, Valle, Colombia; Citizen Colombia; Nationality Colombia; Cedula No. 16210083 (Colombia); (INDIVIDUAL) [SDNT]

20. SABOGAL ZULUAGA, Daniela, c/o ORLANDO SABOGAL ZULUAGA E HIJOS & CIA S EN C, Ansermanuevo, Valle, Colombia; Avenida 17A No. 19-27, Barrio San Jose, Cucuta, Norte de Santander, Colombia; Paseo 5 de Julio, Barrio Libertad, San Antonio, Tachira, Venezuela; Calle 30 No. 3B-45, La Campina, Pereira, Risaralda, Colombia; Calle 14 No. 30-153, Medellin, Antioquia, Colombia; DOB 19 Jul 1989; POB Cucuta, Norte de Santander, Colombia; Citizen Colombia; Nationality Colombia; Cedula No. 22012785 (Venezuela) issued: 19 Jul 2004 exp: Jul 2014; Cedula No. TI-89071954430 (Colombia); (INDIVIDUAL) [SDNT]

21. SABOGAL ZULUAGA, Felipe, c/o ORLANDO SABOGAL ZULUAGA E HIJOS & CIA S EN C, Ansermanuevo, Valle, Colombia; Carrera 3 No. 11-99, Ofc. 301, Cartago, Valle, Colombia; Avenida 17A No. 19-27, Barrio San Jose, Cucuta, Norte de Santander, Colombia; Paseo 5 de Julio, Barrio Libertad, San Antonio, Tachira, Venezuela; Calle 30 No. 3B-45, La Campina, Pereira, Risaralda, Colombia; Calle 14 No. 30-153, Medellin, Antioquia, Colombia; DOB 31 Jan 1992; POB Cucuta, Norte de Santander, Colombia; Citizen Colombia; Nationality Colombia; Cedula No. 22012787 (Venezuela) issued: 19 Jul 2004 exp: Jul 2014; Cedula No. TI-92013100049 (Colombia); (INDIVIDUAL) [SDNT]

22. SABOGAL ZULUAGA, Juliana, c/o ORLANDO SABOGAL ZULUAGA E HIJOS & CIA S EN C, Ansermanuevo, Valle, Colombia; Avenida 17A No. 19-27, Barrio San Jose, Cucuta, Norte de Santander, Colombia; Paseo 5 de Julio, Barrio Libertad, San Antonio, Tachira, Venezuela; Calle 30 No. 3B-45, La Campina, Pereira, Risaralda, Colombia; Calle 14 No. 30-153, Medellin, Antioquia, Colombia; DOB 28 Aug 1987; POB Cucuta, Norte de Santander, Colombia; Citizen Colombia; Nationality Colombia; Cedula No. 22012784 (Venezuela) issued: 19 Jul 2004 exp: Jul 2014; Cedula No. TI-87032853519 (Colombia); (INDIVIDUAL) [SDNT]

23. SABOGAL ZULUAGA, Orlando (a.k.a. Sabogal, Alberto; a.k.a. “El Mono Sabogal”; a.k.a. “Carequeso”; a.k.a. GUILLEN JIMENEZ, Carlos Alberto; a.k.a. CONTRERAS VIVAS, Juan Pablo; a.k.a. SALAZAR QUINTERO, Carlos Alberto); c/o ORLANDO SABOGAL ZULUAGA E HIJOS & CIA S EN C, Colombia; Calle 18 No. 5N-21, Apt. 302, Cartago, Colombia; Paseo 5 de Julio, Barrio Libertad, Municipio Bolivar, Tachira, Venezuela; Caracas, Venezuela; Paseo 5 de Julio, Barrio Libertad, San Antonio, Tachira, Venezuela; Calle 30 No. 3B-45, La Campina, Pereira, Risaralda, Colombia; Calle 14 No. 30-153, Medellin, Antioquia, Colombia; DOB 22 Feb 1966; Alt. DOB 16 Sep 1965; POB Toro, Valle; Cedula No. 18505378 (Colombia); Passport AE533626 (Colombia); Passport AG496255 (Colombia); Passport 18505378 (Colombia); Passport AC635727 (Colombia); Cedula No. 21171060 (Venezuela); Cedula No. 12773520 (Venezuela); Cedula No. 94318435 (Colombia); Cedula No. 94318435 (Colombia); (INDIVIDUAL) [SDNT]

24. ZULUAGA ALZATE, Diana Patricia, c/o ORLANDO SABOGAL ZULUAGA E HIJOS & CIA S EN C, Ansermanuevo, Valle, Colombia; Avenida 17A No. 19-27, Barrio San Jose, Cucuta, Norte de Santander, Colombia; Carrera 3 No. 11-99, Cartago, Valle, Colombia; Paseo 5 de Julio, Barrio Libertad, San Antonio, Tachira, Venezuela; Calle 14 No. 30-153, Medellin, Antioquia, Colombia; Calle 30 No. 3B-45, La Campina, Pereira, Risaralda, Colombia; Citizen Colombia; Nationality Colombia; Cedula No. 25246532 (Colombia); (INDIVIDUAL) [SDNT]

Dated: October 25, 2006.
Adam J. Szubin,
Director, Office of Foreign Assets Control.

[FR Doc. E6-18279 Filed 10-30-06; 8:45 am]

BILLING CODE 4811-42-P